DEPARTMENT OF HOMELAND SECURITY

Federal Emergency Management Agency

44 CFR Part 64

[Docket No. FEMA-7945]

Suspension of Community Eligibility

AGENCY: Mitigation Division, Federal Emergency Management Agency (FEMA), Department of Homeland Security.

ACTION: Final rule.

SUMMARY: This rule identifies communities, where the sale of flood insurance has been authorized under the National Flood Insurance Program (NFIP), that are scheduled for suspension on the effective dates listed within this rule because of noncompliance with the floodplain management requirements of the program. If FEMA receives documentation that the community has adopted the required floodplain management measures prior to the effective suspension date given in this rule, the suspension will not occur and a notice of this will be provided by publication in the Federal Register on a subsequent date.

EFFECTIVE DATES: The effective date of each community's scheduled suspension is the third date (“Susp.”) listed in the third column of the following tables.

ADDRESSES: If you want to determine whether a particular community was suspended on the suspension date, contact the appropriate FEMA Regional Office.

FOR FURTHER INFORMATION CONTACT: David Stearrett, Mitigation Division, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59 et seq. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 is revised to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

The tables published under the authority of § 64.6 are amended as follows:

State and location | Community No. | Effective date authorization/cancellation of sale of flood insurance in community | Current effective map date | Date certain federal assistance no longer available in SFHAs
Region II
New Jersey:
Barnegat, Township of, Ocean County | 340396 | December 17, 1973, Emerg; December 15, 1982, Reg; September 29, 2006, Susp | 09/29/2006 | 09/29/2006
Bay Head, Borough of, Ocean County. | 345281 | November 6, 1970, Emerg; August 13, 1971, Reg; September 29, 2006, Susp | ......do* | Do.
Beachwood, Borough of, Ocean County | 340368 | October 23, 1974, Emerg; May 1, 1979, Reg; September 29, 2006, Susp | ......do | Do.
Berkeley, Township of, Ocean County | 340369 | July 2, 1971, Emerg; May 19, 1981, Reg; September 29, 2006, Susp | ......do | Do.
Brick, Township of, Ocean County | 345285 | June 30, 1970, Emerg; August 8, 1972, Reg; September 29, 2006, Susp | ......do | Do.
Dover, Township of, Ocean County | 345293 | October 23, 1970, Emerg; March 24, 1972, Reg; September 29, 2006, Susp | ......do | Do.
Eagleswood, Township of, Ocean County | 340372 | June 27, 1974, Emerg; February 16, 1983, Reg; September 29, 2006, Susp | ......do | Do.
Island Heights, Borough of, Ocean County | 340374 | September 6, 1974, Emerg; June 15, 1979, Reg; September 29, 2006, Susp | ......do | Do.
Jackson, Township of, Ocean County | 340375 | January 12, 1973, Emerg; September 16, 1982, Reg; September 29, 2006, Susp | ......do | Do.
Lakewood, Township of, Ocean County | 340378 | August 4, 1972, Emerg; March 15, 1977, Reg; September 29, 2006, Susp | ......do | Do.
Long Beach, Township of, Ocean County | 345301 | May 29, 1970, Emerg; March 26, 1971, Reg; September 29, 2006, Susp | ......do | Do.
Manchester, Township of, Ocean County | 340382 | October 10, 1973, Emerg; May 2, 1983, Reg; September 29, 2006, Susp | ......do | Do.
Mantoloking, Borough of, Ocean County | 340383 | January 14, 1972, Emerg; September 30, 1977, Reg; September 29, 2006, Susp | ......do | Do.
Ocean, Township of, Ocean County | 340518 | April 30, 1974, Emerg; January 6, 1983, Reg; September 29, 2006, Susp | ......do | Do.
Ocean Gate, Borough of, Ocean County | 340384 | May 16, 1975, Emerg; May 19, 1981, Reg; September 29, 2006, Susp | ......do | Do.
Pine Beach, Borough of, Ocean County | 340385 | April 14, 1975, Emerg; August 11, 1978, Reg; September 29, 2006, Susp | ......do | Do.
Plumstead, Township of, Ocean County | 340386 | January 14, 1975, Emerg; September 30, 1981, Reg; September 29, 2006, Susp | ......do | Do.
Point Pleasant, Borough of, Ocean County | 345313 | January 29, 1971, Emerg; July 7, 1972, Reg; September 29, 2006, Susp | ......do | Do.
Seaside Heights, Borough of, Ocean County | 340389 | July 28, 1975, Emerg; July 16, 1979, Reg; September 29, 2006, Susp | ......do | Do.
Seaside Park, Borough of, Ocean County | 345319 | December 11, 1970, Emerg; August 13, 1971, Reg; September 29, 2006, Susp | ......do | Do.
Ship Bottom, Borough of, Ocean County | 345320 | May 29, 1970, Emerg; April 2, 1971, Reg; September 29, 2006, Susp | ......do | Do.
South Toms River, Borough of, Ocean County | 340392 | June 27, 1975, Emerg; January 6, 1983, Reg; September 29, 2006, Susp | ......do | Do.
Tuckerton, Borough of, Ocean County | 340395 | August 9, 1973, Emerg; May 2, 1983, Reg; September 29, 2006, Susp | ......do | Do.
Region III
Maryland:
Barnesville, Town of, Montgomery County | 240094 | June 26, 1978, Emerg; August 10, 1979, Reg; September 29, 2006, Susp | ......do | Do.
Brookeville, Town of, Montgomery County | 240166 | August 4, 1986, Emerg; June 19, 1989, Reg; September 29, 2006, Susp | ......do | Do.
Gaithersburg, City of, Montgomery County | 240050 | February 2, 1973, Emerg; December 1, 1982, Reg; September 29, 2006, Susp | ......do | Do.
Montgomery County, Unincorporated Areas | 240049 | October 13, 1972, Emerg; July 2, 1979, Reg; September 29, 2006, Susp | ......do | Do.
Somerset, Town of, Montgomery County | 240134 | March 9, 2006, Emerg; Reg; September 29, 2006; September 29, 2006, Susp | ......do | Do.
Pennsylvania: Atglen, Borough of, Chester County | 420273 | July 30, 1974, Emerg; December 4, 1984, Reg; September 29, 2006, Susp | ......do | Do.
Avondale, Borough of, Chester County | 421473 | August 29, 1975, Emerg; November 4, 1987, Reg; September 29, 2006, Susp | ......do | Do.
Birmingham, Township of, Chester County | 421474 | November 14, 1974, Emerg; April 15, 1981, Reg; September 29, 2006, Susp | ......do | Do.
Caln, Township of, Chester County | 422247 | August 14, 1975, Emerg; September 30, 1981, Reg; September 29, 2006, Susp | ......do | Do.
Charlestown, Township of, Chester County | 421475 | November 24, 1975, Emerg; December 4, 1984, Reg; September 29, 2006, Susp | ......do | Do.
Coatesville, City of, Chester County | 420274 | December 26, 1974, Emerg; May 17, 1982, Reg; September 29, 2006, Susp | ......do | Do.
Downingtown, Borough of, Chester County | 420275 | December 3, 1971, Emerg; April 15, 1977, Reg; September 29, 2006, Susp | ......do | Do.
East Bradford, Township of, Chester County | 420276 | August 16, 1974, Emerg; April 15, 1977, Reg; September 29, 2006, Susp | ......do | Do.
East Brandywine, Township of, Chester County | 421476 | November 21, 1975, Emerg; February 1, 1984, Reg; September 29, 2006, Susp | ......do | Do.
East Caln, Township of, Chester County | 421477 | October 10, 1974, Emerg; September 30, 1980, Reg; September 29, 2006, Susp | ......do | Do.
East Coventry, Township of, Chester County | 421478 | December 3, 1975, Emerg; February 17, 1982, Reg; September 29, 2006, Susp | ......do | Do.
East Fallowfield, Township of, Chester County | 421479 | November 3, 1975, Emerg; June 1, 1983, Reg; September 29, 2006, Susp | ......do | Do.
East Goshen, Township of, Chester County | 420277 | January 21, 1972, Emerg; July 5, 1977, Reg; September 29, 2006, Susp | ......do | Do.
East Marlborough, Township of, Chester County | 421480 | March 28, 1975, Emerg; July 16, 1981, Reg; September 29, 2006, Susp | ......do | Do.
East Nantmeal, Township of, Chester County | 421481 | April 14, 1976, Emerg; February 1, 1984, Reg; September 29, 2006, Susp | ......do | Do.
East Nottingham, Township of, Chester County | 421482 | February, 9, 1976, Emerg; September 4, 1985, Reg; September 29, 2006, Susp | ......do | Do.
East Pikeland, Township of, Chester County | 421483 | September 6, 1974, Emerg; March 16, 1981, Reg; September 29, 2006, Susp | ......do | Do.
East Vincent, Township of, Chester County | 420278 | February 9, 1973, Emerg; December 1, 1977, Reg; September 29, 2006, Susp | ......do | Do.
East Whiteland, Township of, Chester County | 420279 | June 16, 1972, Emerg; June 1, 1989, Reg; September 29, 2006, Susp | ......do | Do.
Easttown, Township of, Chester County | 422600 | November 14, 1974, Emerg; March 16, 1981, Reg; September 29, 2006, Susp | ......do | Do.
Elk, Township of, Chester County | 422286 | January 14, 1975, Emerg; July 30, 1982, Reg; September 29, 2006, Susp | ......do | Do.
Elverson, Borough of, Chester County | 422287 | February 13, 1976, Emerg; February 25, 1983, Reg; September 29, 2006, Susp | ......do | Do.
Franklin, Township of, Chester County | 422288 | July 6, 1983, Emerg; March 1, 1986, Reg; September 29, 2006, Susp | ......do | Do.
Highland, Township of, Chester County | 422289 | August 25, 1977, Emerg; April 8, 1983, Reg; September 29, 2006, Susp | ......do | Do.
Honeybrook, Township of, Chester County | 422290 | November 10, 1975, Emerg; August 1, 1984, Reg; September 29, 2006, Susp | ......do | Do.
Kennett, Township of, Chester County | 422586 | December 8, 1975, Emerg; June 1, 1984, Reg; September 29, 2006, Susp | ......do | Do.
Kennett Square, Borough of, Chester County | 420280 | April 21, 1975, Emerg; July 16, 1981, Reg; September 29, 2006, Susp | ......do | Do.
London Britain, Township of, Chester County | 422273 | February 5, 1975, Emerg; December 31, 1982, Reg; September 29, 2006, Susp | ......do | Do.
London Grove, Township of, Chester County | 422274 | October 17, 1974, Emerg; February 11, 1983, Reg; September 29, 2006, Susp | ......do | Do.
Londonderry, Township of, Chester County | 421484 | December 12, 1974, Emerg; September 24, 1984, Reg; September 29, 2006, Susp | ......do | Do.
Lower Oxford, Township of, Chester County | 421485 | September 30, 1975, Emerg; October 15, 1985, Reg; September 29, 2006, Susp | ......do | Do.
Malvern, Borough of, Chester County | 420281 | June 20, 1974, Emerg; January 16, 1981, Reg; September 29, 2006, Susp | ......do | Do.
Modena, Borough of, Chester County | 420282 | October 10, 1974, Emerg; November 19, 1987, Reg; September 29, 2006, Susp | ......do | Do.
New Garden, Township of, Chester County | 422275 | November 3, 1975, Emerg; October 15, 1982, Reg; September 29, 2006, Susp | ......do | Do.
New London, Township of, Chester County | 422276 | May 13, 1975, Emerg; November 12, 1982, Reg; September 29, 2006, Susp | ......do | Do.
Newlin, Township of, Chester County | 421486 | October 24, 1975, Emerg; August 1, 1984, Reg; September 29, 2006, Susp | ......do | Do.
North Coventry, Township of, Chester County | 420283 | January 26, 1973, Emerg; August 15, 1978, Reg; September 29, 2006, Susp | ......do | Do.
Oxford, Borough of, Chester County | 420284 | June 17, 1975, Emerg; September 17, 1982, Reg; September 29, 2006, Susp | ......do | Do.
Parkesburg, Borough of, Chester County | 422277 | June 11, 1975, Emerg; June 1, 1983, Reg; September 29, 2006, Susp | ......do | Do.
Penn, Township of, Chester County | 421487 | October 15, 1975, Emerg; December 17, 1982, Reg; September 29, 2006, Susp | ......do | Do.
Pennsbury, Township of, Chester County | 420285 | September 29, 1972, Emerg; December 28, 1976, Reg; September 29, 2006, Susp | ......do | Do.
Phoenixville, Borough of, Chester County | 420287 | August 1, 1974, Emerg; November 5, 1980, Reg; September 29, 2006, Susp | ......do | Do.
Pocopson, Township of, Chester County | 420286 | January 21, 1972, Emerg; April 15, 1977, Reg; September 29, 2006, Susp | ......do | Do.
Sadsbury, Township of, Chester County | 421488 | December 31, 1975, Emerg; October 15, 1985, Reg; September 29, 2006, Susp | ......do | Do.
Schuylkill, Township of, Chester County | 421489 | January 30, 1975, Emerg; November 5, 1980, Reg; September 29, 2006, Susp | ......do | Do.
South Coatesville, Borough of, Chester County | 420288 | December 10, 1975, Emerg; May 3, 1982, Reg; September 29, 2006, Susp | ......do | Do.
South Coventry, Township of, Chester County | 421490 | April 29, 1975, Emerg; July 18, 1983, Reg; September 29, 2006, Susp | ......do | Do.
Spring City, Borough of, Chester County | 420289 | June 4, 1975, Emerg; March 16, 1981, Reg; September 29, 2006, Susp | ......do | Do.
Thornbury, Township of, Chester County | 420290 | February 18, 1972, Emerg; March 1, 1977, Reg; September 29, 2006, Susp | ......do | Do.
Tredyffrin, Township of, Chester County | 420291 | September 17, 1971, Emerg; April 17, 1978, Reg; September 29, 2006, Susp | ......do | Do.
Upper Oxford, Township of, Chester County | 422278 | August 6, 1975, Emerg; February 25, 1983, Reg; September 29, 2006, Susp | ......do | Do.
Upper Uwchlan, Township of, Chester County | 421491 | March 10, 1976, Emerg; August 19, 1985, Reg; September 29, 2006, Susp | ......do | Do.
Uwchlan, Township of, Chester County | 421492 | October 11, 1974, Emerg; September 30, 1980, Reg; September 29, 2006, Susp | ......do | Do.
Valley, Township of, Chester County | 421206 | May 23, 1974, Emerg; August 1, 1984, Reg; September 29, 2006, Susp | ......do | Do.
Wallace, Township of, Chester County | 421493 | February 11, 1976, Emerg; March 11, 1983, Reg; September 29, 2006, Susp | ......do | Do.
Warwick, Township of, Chester County | 421494 | November 28, 1975, Emerg; March 1, 1984, Reg; September 29, 2006, Susp | ......do | Do.
West Bradford, Township of, Chester County | 421495 | February 10, 1975, Emerg; July 16, 1981, Reg; September 29, 2006, Susp | ......do | Do.
West Brandywine, Township of, Chester County | 421496 | August 6, 1975, Emerg; September 28, 1979, Reg; September 29, 2006, Susp | ......do | Do.
West Caln, Township of, Chester County | 421497 | May 19, 1976, Emerg; January 17, 1985, Reg; September 29, 2006, Susp | ......do | Do.
West Chester, Borough of, Chester County | 420292 | December 3, 1971, Emerg; July 5, 1977, Reg; September 29, 2006, Susp | ......do | Do.
West Fallowfield, Township of, Chester County | 422602 | March 19, 1975, Emerg; April 1, 1983, Reg; September 29, 2006, Susp | ......do | Do.
West Goshen, Township of, Chester County | 420293 | January 26, 1973, Emerg; November 2, 1977, Reg; September 29, 2006, Susp | ......do | Do.
West Marlborough, Township of, Chester County | 422279 | May 20, 1975, Emerg; January 18, 1984, Reg; September 29, 2006, Susp | ......do | Do.
West Nantmeal, Township of, Chester County | 421498 | February 12, 1975, Emerg; August 1, 1984, Reg; September 29, 2006, Susp | ......do | Do.
West Nottingham, Township of, Chester County | 422280 | July 2, 1976, Emerg; October 15, 1985, Reg; September 29, 2006, Susp | ......do | Do.
West Pikeland, Township of, Chester County | 421151 | April 10, 1974, Emerg; June 1, 1983, Reg; September 29, 2006, Susp | ......do | Do.
West Sadsbury, Township of, Chester County | 422281 | March 23, 1976, Emerg; August 5, 1985, Reg; September 29, 2006, Susp | ......do | Do.
West Vincent, Township of, Chester County | 421499 | August 11, 1975, Emerg; November 19, 1987, Reg; September 29, 2006, Susp | ......do | Do.
West Whiteland, Township of, Chester County | 420295 | November 5, 1971, Emerg; May 2, 1977, Reg; September 29, 2006, Susp | ......do | Do.
Westtown, Township of, Chester County | 420294 | November 26, 1971, Emerg; June 1, 1977, Reg; September 29, 2006, Susp | ......do | Do.
Willistown, Township of, Chester County | 422282 | October 17, 1974, Emerg; October 15, 1981, Reg; September 29, 2006, Susp | ......do | Do.
Region IV
Alabama:
Bessemer, City of, Jefferson County | 010115 | May 13, 1975, Emerg; June 1, 1981, Reg; September 29, 2006, Susp | ......do | Do.
Brookside, Town of, Jefferson County | 010118 | May 29, 1975, Emerg; February 18, 1981, Reg; September 29, 2006, Susp | ......do | Do.
Kimberly, Town of, Jefferson County | 010265 | January 16, 1976, Emerg; June 18, 1981, Reg; September 29, 2006, Susp | ......do | Do.
Lipscomb, City of, Jefferson County | 010126 | July 25, 1975, Emerg; January 2, 1981, Reg; September 29, 2006, Susp | ......do | Do.
Morris, Town of, Jefferson County | 010264 | March 11, 1980, Emerg; June 3, 1986, Reg; September 29, 2006, Susp | ......do | Do.
Pinson, City of, Jefferson County | 010447 | November 10, 2004, Emerg; November 10, 2004, Reg; September 29, 2006, Susp | ......do | Do.
Warrior, City of, Jefferson County | 010263 | May 12, 1975, Emerg; January 2, 1981, Reg; September 29, 2006, Susp | ......do | Do.
Wilsonville, Town of, Shelby County | 010404 | October 27, 1993, Emerg; March 1, 1995, Reg; September 29, 2006, Susp | ......do | Do.
Florida:
Cross City, Town of, Dixie County | 120074 | June 26, 1975, Emerg; September 16, 1982, Reg; September 29, 2006, Susp | ......do | Do.
Horseshoe Beach, Town of, Dixie County | 120326 | July 25, 1975, Emerg; November 2, 1983, Reg; September 29, 2006, Susp | ......do | Do.
Georgia: Lawrenceville, City of, Gwinnett County | 130099 | August 28, 1974, Emerg; May 15, 1980, Reg; September 29, 2006, Susp | ......do | Do.
Kentucky:
Bell County, Unincorporated Areas | 210010 | March 28, 1975, Emerg; February 18, 1981, Reg; September 29, 2006, Susp | ......do | Do.
Middlesboro, City of, Bell County | 215190 | December 4, 1970, Emerg; May 28, 1971, Reg; September 29, 2006, Susp | ......do | Do.
Pineville, City of, Bell County | 210012 | November 21, 1973, Emerg; June 1, 1978, Reg; September 29, 2006, Susp | ......do | Do.
Tennessee:
Brentwood, City of, Williamson County | 470205 | March 23, 1973, Emerg; February 1, 1978, Reg; September 29, 2006, Susp | ......do | Do.
Fairview, City of, Williamson County | 470242 | August 18, 1986, Emerg; September 1, 1990, Reg; September 29, 2006, Susp | ......do | Do.
Franklin, City of, Williamson County | 470206 | September 25, 1974, Emerg; July 2, 1980, Reg; September 29, 2006, Susp | ......do | Do.
Johnson City, City of, Washington County | 475432 | May 22, 1970, Emerg; May 22, 1970, Reg; September 29, 2006, Susp | ......do | Do.
Region V
Indiana:
Altona, Town of, DeKalb County | 180045 | September 10, 1975, Emerg; August 19, 1985, Reg; September 29, 2006, Susp | ......do | Do.
Auburn, City of, DeKalb County | 180046 | June 11, 1975, Emerg; July 18, 1983, Reg; September 29, 2006, Susp | ......do | Do.
Butler, City of, DeKalb County | 180047 | March 6, 1975, Emerg; August 19, 1985, Reg; September 29, 2006, Susp | ......do | Do.
DeKalb County, Unincorporated Areas | 180044 | November 8, 1976, Emerg; January 5, 1989, Reg; September 29, 2006, Susp | ......do | Do.
Garrett, City of, DeKalb County | 180048 | March 7, 1975, Emerg; February 11, 1976, Reg; September 29, 2006, Susp | ......do | Do.
Hamilton, Town of, Steuben County | 180248 | November 20, 1975, Emerg; August 19, 1986, Reg; September 29, 2006, Susp | ......do | Do.
St. Joe, Town of, DeKalb County | 180049 | July 16, 1975, Emerg; January 3, 1985, Reg; September 29, 2006, Susp | ......do | Do.
Waterloo, Town of, DeKalb County | 180050 | March 6, 1975, Emerg; September 4, 1985, Reg; September 29, 2006, Susp | ......do | Do.
Michigan:
Armada, Village of, Macomb County | 260742 | November 7, 1983, Emerg; May 17, 1990, Reg; September 29, 2006, Susp | ......do | Do.
Auburn Hills, City of, Oakland County | 260263 | August 7, 1973, Emerg; July 16, 1979, Reg; September 29, 2006, Susp | ......do | Do.
Beverly Hills, Village of Oakland County | 260256 | November 2, 1973, Emerg; June 15, 1979, Reg; September 29, 2006, Susp | ......do | Do.
Birmingham, City of, Oakland County | 260168 | May 5, 1972, Emerg; May 15, 1980, Reg; September 29, 2006, Susp | ......do | Do.
Bloomfield, Township of, Oakland County | 260169 | May 22, 1973, Emerg; January 6, 1983, Reg; September 29, 2006, Susp | ......do | Do.
Clarkston Village of, Oakland County | 260472 | June 18, 1976, Emerg; March 2, 1983, Reg; September 29, 2006, Susp | ......do | Do.
Clinton, Township of, Macomb County | 260121 | February 9, 1973, Emerg; August 1, 1979, Reg; September 29, 2006, Susp | ......do | Do.
Commerce, Township of Oakland County | 260473 | July 20, 1976, Emerg; March 16, 1981, Reg; September 29, 2006, Susp | ......do | Do.
Farmington, City of, Oakland County | 260171 | December 15, 1972, Emerg; July 16, 1980, Reg; September 29, 2006, Susp | ......do | Do.
Farmington Hills, of Oakland County | 2260172 | March 30, 1973, Emerg; February 1, 1980, Reg; September 29, 2006, Susp | ......do | Do.
Franklin, Village of Oakland County | 260325 | March 7, 1975, Emerg; December 1, 1971, Reg; September 29, 2006, Susp | ......do | Do.
Fraser, City of, Macomb County | 260122 | February 16, 1973, Emerg; April 2, 1979, Reg; September 29, 2006, Susp | ......do | Do.
Harrison, Township of, Macomb County | 260123 | December 8, 1972, Emerg; May 5, 1981, Reg; September 29, 2006, Susp | ......do | Do.
Holly, Township of, Macomb County | 260474 | November 4, 1981, Emerg; February 1, 1988, Reg; September 29, 2006, Susp | ......do | Do.
Independence, Township of, Oakland County | 260475 | June 10, 1983, Emerg; June 10, 1983, Reg; September 29, 2006, Susp | ......do | Do.
Keego Harbor, City of, Oakland County | 260173 | June 20, 1975, Emerg; December 1, 1982, Reg; September 29, 2006, Susp | ......do | Do.
Lake Angelus, City of, Oakland County | 260700 | August 18, 2003, Emerg; August 18, 2003, Reg; September 29, 2006, Susp | ......do | Do.
Lake Orion, Village of, Oakland County | 260588 | March 22, 1976, Emerg; September 16, 1981, Reg; September 29, 2006, Susp | ......do | Do.
Lenox, Township of, Macomb County | 261014 | January 15, 1998, Emerg; September 29, 2006, Reg; September 29, 2006, Susp | ......do | Do.
Lyon, Township of, Oakland County | 261032 | March 28, 2001, Emerg; September 29, 2006, Reg; September 29, 2006, Susp | ......do | Do.
Macomb, Township of, Macomb County | 260445 | December 16, 1977, Emerg; February 4, 1981, Reg; September 29, 2006, Susp | ......do | Do.
Mount Clemens, City of, Macomb County | 260124 | April 5, 1973, Emerg; July 16, 1980, Reg; September 29, 2006, Susp | ......do | Do.
New Haven, Village of, Macomb County | 260446 | July 25, 1975, Emerg; September 17, 1980, Reg; September 29, 2006, Susp | ......do | Do.
Northville, City of, Oakland County | 260235 | March 29, 1976, Emerg; September 16, 1981, Reg; September 29, 2006, Susp | ......do | Do.
Novi, City of, Oakland County | 260175 | March 11, 1974, Emerg; April 3, 1978, Reg; September 29, 2006, Susp | ......do | Do.
Oakland, Township of, Oakland County | 260476 | December 23, 1982, Emerg; December 23, 1982, Reg; September 29, 2006, Susp | ......do | Do.
Pontiac, City of, Oakland County | 260177 | August 7, 1973, Emerg; August 15, 1979, Reg; September 29, 2006, Susp | ......do | Do.
Ray, Township of, Oakland County | 260910 | August 7, 1973, Emerg; August 15, 1979, Reg; September 29, 2006, Susp | ......do | Do.
Rochester, City of, Oakland County | 260326 | April 9, 1976, Emerg; May 5, 1981, Reg; September 29, 2006, Susp | ......do | Do.
Rochester Hills, City of, Oakland County | 260471 | July 22, 1975, Emerg; September 16, 1981, Reg; September 29, 2006, Susp | ......do | Do.
South Lyon, City of, Oakland County | 261037 | October 12, 2001, Emerg; September 29, 2006, Reg; September 29, 2006, Susp | ......do | Do.
Southfield, City of, Oakland County | 260179 | December 1, 1971, Emerg; September 28, 1979, Reg; September 29, 2006, Susp | ......do | Do.
St. Clair Shores, City of, Macomb County | 260127 | December 1, 1972, Emerg; August 1, 1979, Reg; September 29, 2006, Susp | ......do | Do.
Sterling Heights, City of, Macomb County | 260128 | January 12, 1973, Emerg; August 3, 1981, Reg; September 29, 2006, Susp | ......do | Do.
Sylvan Lake, City of, Oakland County | 260701 | March 8, 1977, Emerg; November 16, 1983, Reg; September 29, 2006, Susp | ......do | Do.
Troy, City of, Oakland County | 260180 | February 23, 1973, Emerg; May 2, 1983, Reg; September 29, 2006, Susp | ......do | Do.
Warren, City of, Macomb County | 260129 | April 6, 1973, Emerg; May 1, 1979, Reg; September 29, 2006, Susp | ......do | Do.
Washington, Township of, Macomb County | 260447 | February 12, 1982, Emerg; February 12, 1982, Reg; September 29, 2006, Susp | ......do | Do.
Waterford, Township of, Oakland County | 260284 | August 16, 1974, Emerg; February 2, 1983, Reg; September 29, 2006, Susp | ......do | Do.
West Bloomfield, Township of, Oakland County | 260182 | March 30, 1973, Emerg; March 2, 1983, Reg; September 29, 2006, Susp | ......do | Do.
White Lake, Township of, Oakland County | 260479 | February 11, 1985, Emerg; February 11, 1985, Reg; September 29, 2006, Susp | ......do | Do.
Wolverine Lake, Village of, Oakland County | 260480 | September 23, 1975, Emerg; May 1, 1987, September 29, 2006, Susp | ......do | Do.
Region VII
Missouri:
Blue Springs, City of, Jackson County | 290169 | October 18, 1974, Emerg; September 15, 1978, Reg; September 29, 2006, Susp | ......do | Do.
Branson, City of, Taney County | 290436 | December 10, 1971, Emerg; October 26, 1976, Reg; September 29, 2006, Susp | ......do | Do.
Buckner, City of, Jackson County | 290170 | March 29, 1976, Emerg; September 15, 1978, Reg; September 29, 2006, Susp | ......do | Do.
Bull Creek, Village of, Taney County | 290916 | December 6, 1993, Emerg; September 30, 1997, Reg; September 29, 2006, Susp | ......do | Do.
Grain Valley, City of, Jackson County | 290737 | October 9, 1979, Emerg; October 9, 1979, Reg; September 29, 2006, Susp | ......do | Do.
Grandview, City of, Jackson County | 290171 | March 16, 1973, Emerg; June 15, 1979, Reg; September 29, 2006, Susp | ......do | Do.
Greenwood, City of, Jackson County | 290711 | October 11, 1977, Emerg; January 3, 1979, Reg; September 29, 2006, Susp | ......do | Do.
Hollister, City of, Taney County | 290437 | February 14, 1975, Emerg; March 18, 1985, Reg; September 29, 2006, Susp | ......do | Do.
Independence, City of, Clay and Jackson Counties | 290172 | October 15, 1971, Emerg; February 1, 1979, Reg; September 29, 2006, Susp | ......do | Do.
Jackson County, Unincorporated Areas | 290492 | June 19, 1974, Emerg; September 29, 1978, Reg; September 29, 2006, Susp | ......do | Do.
Lake Lotawana, City of, Jackson County | 290697 | November 10, 1976, Emerg; November 1, 1979, Reg; September 29, 2006, Susp | ......do | Do.
Lee's Summit, City of, Jackson County | 290174 | February 4, 1972, Emerg; April 3, 1978, Reg; September 29, 2006, Susp | ......do | Do.
Levasy, City of, Jackson County | 290175 | February 13, 1975, Emerg; September 29, 1978, Reg; September 29, 2006, Susp | ......do | Do.
Oak Grove, City of, Jackson County | 290694 | August 13, 1976, Emerg; September 5, 1979, Reg; September 29, 2006, Susp | ......do | Do.
Raytown, City of, Jackson County | 290176 | February 27, 1975, Emerg; September 15, 1978, Reg; September 29, 2006, Susp | ......do | Do.
Rockaway Beach, Town of, Taney County | 290438 | April 26, 1999, Emerg; March 1, 2000, Reg; September 29, 2006, Susp | ......do | Do.
Sugar Creek, City of, Clay and Jackson Counties | 290178 | January 25, 1977, Emerg; January 3, 1979, Reg; September 29, 2006, Susp | ......do | Do.
Taney County, Unincorporated Areas | 290435 | June 20, 2002, Emerg; April 1, 2004, Reg; September 29, 2006, Susp | ......do | Do.
Region VIII
Montana: Lincoln County, Unincorporated Areas | 300157 | April 3, 1978, Emerg; August 1, 1980, Reg; September 29, 2006, Susp | ......do | Do.
Wyoming:
Jackson, Town of, Teton County | 560052 | August 8, 1975, Emerg; May 4, 1989, Reg; September 29, 2006, Susp | ......do | Do.
Teton County, Unincorporated Areas | 560094 | April 19, 1978, Emerg; May 4, 1989, Reg; September 29, 2006, Susp | ......do | Do.
*-do- = Ditto.
Code for reading third column: Emerg.-Emergency; Reg.-Regular; Susp-Suspension.

Dated: September 14, 2006.
David I. Maurstad,
Mitigation Division Director, Federal Emergency Management Agency, Department of Homeland Security.

[FR Doc. 06-7949 Filed 9-20-06; 8:45 am]

BILLING CODE 9110-12-P